DEPARTMENT OF COMMERCE

National Oceanic and Atmospheric Administration

Agency Information Collection Activities; Submission to the Office of Management and Budget (OMB) for Review and Approval; Comment Request; Seafood Inspection and Certification Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on September 9, 2024 during a 60-day comment period. This notice allows for an additional 30 days for public comments.

Agency: National Oceanic and Atmospheric Administration, Commerce.

Title: Seafood Inspection and Certification Requirements.

OMB Control Number: 0648-0266.

Form Number(s): 89-800, 89-801, and 89-814.

Type of Request: Regular submission [revision and extension of a current information collection].

Number of Respondents: 1,012.

Average Hours per Response: 0.0833 hours to complete the Application for Inspection Services, Surety Bond, and the contract completion. 0.5 hours for an Application for Appeal. 0.25 hours to complete the Label and Specification submission. 60 hours to submit the HACCP for new applicants, and 40 hours to submit the HACCP for current applicants.

Total Annual Burden Hours: 23,067 hours.

Needs and Uses: This request is for the revision and extension of a current information collection. The National Marine Fisheries Service operates a fee-for-service Seafood Inspection Program (SIP), available to all segments of the seafood industry. Participants request services such as product inspection, export health and legal harvest certification, and facility approval. Information is collected from participants to confirm the identity of products being inspected and certified, as well as to show compliance with Program requirements. The implementing regulations for this Program at 50 CFR 260 are being updated to bring the regulation more in line with current practices, remove outdated text, and streamline seafood inspection services. The last updated information collection (published January 19, 2022, with expiration date January 31, 2025) already included all of the changes proposed with this rulemaking, including the shift to online inspection and service requests and housing day-to-day procedures in the online SIP Manual versus in codified text. The information collection is being revised and extended to add a previously overlooked Surety form and adjust the burden figures.

Affected Public: Business or other for-profit organizations.

Frequency: Varies, On occasion and annually.

Respondent's Obligation: Required to Obtain or Retain Benefits.

Legal Authority: The National Marine Fisheries Service (NMFS) operates the fee-for-service Seafood Inspection Program (SIP) under the authorities of the Agricultural Marketing Act of 1946 (7 U.S.C 38), as amended, and the Fish and Wildlife Act of 1956 (16 U.S.C 742a-742j).

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0266.

Sheleen Dumas,
Departmental PRA Clearance Officer, Office of the Under Secretary for Economic Affairs, Commerce Department.

[FR Doc. 2024-29357 Filed 12-12-24; 8:45 am]

BILLING CODE 3510-22-P